DEPARTMENT OF ENERGY

Federal Energy Regulatory Commission

[Docket No. ER99-14350-003, et al.]

Avista Corporation, et al.; Electric Rate and Corporate Regulation Filings

September 12, 2002.

The following filings have been made with the Commission. The filings are listed in ascending order within each docket classification.

1. Avista Corporation, Spokane Energy, LLC, Avista Turbine Power, Inc.

[Docket Nos. ER99-1435-003, ER98-4336-007, and ER00-1814-001]

Take notice that on September 9, 2002, Avista Corporation, Spokane Energy, LLC, and Avista Turbine Power, Inc., filed with the Federal Energy Regulatory Commission (Commission) their three-year updated market analysis. Avista Corporation is a load-serving public utility with its headquarters in Spokane, Washington, and Spokane Energy and Avista Turbine Power are indirect, wholly-owned subsidiaries of Avista Corporation.

Copies of this filing have been served upon parties on the Commission's official service lists for these dockets.

Comment Date: September 30, 2002.

2. South Point Energy Center, LLC

[Docket No. ER02-2177-001]

Take notice that on September 6, 2002, South Point Energy Center, LLC filed a service agreement in compliance with the Commission order dated August 22, 2002 in the referenced docket.

Comment Date: September 27, 2002.

3. Public Service Company of New Mexico

[Docket No. ER02-2544-000]

Take notice that on September 9, 2002, Public Service Company of New Mexico (PNM) submitted for filing on its own behalf, an executed interconnection agreement, dated June 7, 2002, between PNM as a participant in the Four Corners Power Plant Project, located in the northwest corner of New Mexico (other Four Corners Power Plant Project participants include Arizona Public Service Company, El Paso Electric Company, Salt River Project Agricultural Improvement and Power District, Southern California Edison Company, and Tucson Electric Company), and three new interconnection participants: Tri-State Generation and Transmission Association, Inc., Public Service Company of Colorado, and Western Area Power Administration, under the terms of PNM's Open Access Transmission Tariff. The interconnection agreement sets forth the rates, terms and conditions for installation of interconnection facilities at the Four Corners Power Plant Project 345kV Switchyard to accommodate the interconnection of the upgraded (from 230kV to 345kV) Shiprock, New Mexico to Four Corners 345kV Transmission Line (Shiprock—Four Corners Line). The three interconnection participants possess transmission rights on the Shiprock—Four Corners Line. PNM requests an effective date of June 7, 2002 for the interconnection agreement, the date of the last signatory to execute the interconnection agreement. PNM's filing is available for public inspection at its offices in Albuquerque, New Mexico.

Copies of the filing have been sent to all parties to the interconnection agreement, to the New Mexico Public Regulation Commission and the New Mexico Attorney General.

Comment Date: September 30, 2002.

4. Trigen-Cholla LLC

[Docket No. ER02-2545-000]

Take notice that on September 9, 2002, Trigen-Cholla LLC tendered for filing a Notice of Cancellation of Rate Schedule respecting Trigen-Cholla LLC's FERC Electric Tariff, Original Volume No. 1 (the Rate Schedule), which became effective August 1, 2000, in Docket No. ER00-3263-000. Trigen-Cholla LLC has given notice of the termination by their terms of Original Service Agreements No. 1 and No. 2 under the Rate Schedule, between Trigen-Cholla LLC and Tri-State Generation and Transmission Association, Inc.

Trigen-Cholla requests that the cancellation become effective November 8, 2002.

Comment Date: September 30, 2002.

5. Westar Energy, Inc.

[Docket No. ES02-51-000]

Take notice that on September 6, 2002, Westar Energy, Inc. (Westar) submitted an application pursuant to section 204 of the Federal Power Act seeking authorization to issue long-term debt securities, on or before October 31, 2004, in an amount not to exceed $650 million at any one time.

Westar also requests a waiver from the Commission's competitive bidding and negotiated placement requirements at 18 CFR 34.2.

Comment Date: October 3, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-23774 Filed 9-18-02; 8:45 am]

BILLING CODE 6717-01-P